INTERNATIONAL TRADE COMMISSION

[Investigation Nos. 701-TA-423-425 (Final) and 731-TA-964, 966-970, 973-978, 980, and 982-983 (Final)]

Certain Cold-Rolled Steel Products From Argentina, Belgium, Brazil, China, France, Germany, Korea, the Netherlands, New Zealand, Russia, South Africa, Spain, Taiwan, Turkey, and Venezuela

Determinations

On the basis of the record ¹ developed in the subject investigations, the United States International Trade Commission (Commission) determines,² pursuant to section 705(b) of the Tariff Act of 1930 (the Act),³ that an industry in the United States is not materially injured or threatened with material injury, and the establishment of an industry in the United States is not materially retarded, by reason of imports from Brazil, France, and Korea of certain cold-rolled steel products, provided for in headings 7209, 7210, 7211, 7212, 7225, and 7226 of the Harmonized Tariff Schedule of the United States, that have been found by the Department of Commerce to be subsidized by the Governments of Brazil, France, and Korea. The Commission also determines,⁴ pursuant to section 735(b) of the Act,⁵ that an industry in the United States is not materially injured or threatened with material injury, and the establishment of an industry in the United States is not materially retarded, by reason of imports from Argentina, Belgium, Brazil, China, France, Germany, Korea, the Netherlands, New Zealand, Russia, South Africa, Spain, Taiwan, Turkey, and Venezuela of certain cold-rolled steel products, provided for in headings 7209, 7210, 7211, 7212, 7225, and 7226 of the Harmonized Tariff Schedule of the United States, that have been found by the Department of Commerce to be sold in the United States at less than fair value (LTFV).

¹ The record is defined in § 207.2(f) of the Commission's rules of practice and procedure (19 CFR 207.2(f)).

² Commissioner Lynn M. Bragg dissenting.

³ 19 U.S.C. 1671d(b).

⁴ Commissioner Lynn M. Bragg dissenting.

⁵ 19 U.S.C. 1673d(b).

Background

The Commission instituted these investigations effective September 28, 2001, following receipt of petitions filed with the Commission and Commerce by Bethlehem Steel Corporation, Bethlehem, PA; LTV Steel Co., Inc., Cleveland, OH; National Steel Corporation, Mishawaka, IN; Nucor Corporation, Charlotte, NC; Steel Dynamics Inc., Butler, IN; United States Steel LLC, Pittsburgh, PA; WCI Steel, Inc., Warren, OH; and Weirton Steel Corporation, Weirton, WV.⁶ The final phase of the investigations was scheduled by the Commission following notification of preliminary determinations by Commerce that imports of certain cold-rolled steel products from Argentina, Belgium, Brazil, China, France, Germany, Korea, the Netherlands, New Zealand, Russia, South Africa, Spain, Taiwan, Turkey, and Venezuela were being sold at LTFV within the meaning of section 733(b) of the Act,⁷ and preliminary determinations by Commerce that imports of certain cold-rolled steel products from Brazil, France, and Korea were being subsidized within the meaning of section 703(b) of the Act.⁸ Notice of the scheduling of the final phase of the Commission's investigations and of a public hearing to be held in connection therewith was given by posting copies of the notice in the Office of the Secretary, U.S. International Trade Commission, Washington, DC, and by publishing the notice in the Federal Register of June 3, 2002 (67 FR 38291). The hearing was held in Washington, DC, on July 18, 2002, and all persons who requested the opportunity were permitted to appear in person or by counsel. The Commission transmitted its determinations in these investigations to the Secretary of Commerce on October 28, 2002. The views of the Commission are contained in USITC Publication 3551 (November 2002), entitled Certain Cold-Rolled Steel Products from Argentina, Belgium, Brazil, China, France, Germany, Korea, the Netherlands, New Zealand, Russia, South Africa, Spain, Taiwan.

⁶ Weirton Steel Corporation is not a petitioner with respect to the Netherlands.

⁷ 19 U.S.C. 1673b(b).

⁸ 19 U.S.C. 1671b(b).

By order of the Commission
Issued: November 5, 2002.
Marilyn R. Abbott,
Secretary to the Commission.

[FR Doc. 02-28609 Filed 11-8-02; 8:45 am]

BILLING CODE 7020-02-P